MERIT SYSTEMS PROTECTION BOARD

Agency Information Collection Activities: Proposed Collection; Comment Request

AGENCY: U.S. Merit Systems Protection Board.

ACTION: Notice and request for comments.

SUMMARY: The U.S. Merit Systems Protection Board (MSPB), as part of its continuing effort to reduce paperwork and respondent burden, intends to request approval of a new information collection from the Office of Management and Budget (OMB) under the Paperwork Reduction Act of 1995. MSPB is submitting this Information Collection Request (ICR), entitled Accommodation Request Form, OMB Control No. 3124-0NEW, for approval in accordance with Federal regulations, and is requesting public comments. This collection was developed as part of MSPB's effort to streamline the process for collecting information from employees and applicants to MSPB, as well as participants in MSPB functions (parties and/or participants in MSPB appeals, respondents to surveys, and all other individuals engaged in activity conducted by the MSPB), who seek a reasonable accommodation in order for MSPB to carry out its functions with respect to these individuals. The purpose of this notice is to allow 60 days for public comment preceding submission of the collection to OMB.

DATES: Consideration will be given to all comments received by March 17, 2025.

ADDRESSES: Submit comments by using only one of the following methods:

(1) Email. Submit comments to privacy@mspb.gov.

(2) Mail. Submit comments to D. Fon Muttamara, Chief Privacy Officer, Office of the Clerk of the Board, U.S. Merit Systems Protection Board, 1615 M Street NW, Washington, DC 20419.

(3) Fax. Submit comments to (202) 653-7130.

All comments must reference “OMB Control No. 3124-0NEW.” Regardless of the method used for submitting comments or material, all submissions will be posted, without change, to MSPB's website (www.mspb.gov) and will include any personal information you provide. Therefore, submitting this information makes it public.

FOR FURTHER INFORMATION CONTACT: D. Fon Muttamara, Chief Privacy Officer, at privacy@mspb.gov or (202) 653-7200. You may submit written questions to the Office of the Clerk of the Board by any of the following methods: by email to privacy@mspb.gov or by mail to Clerk of the Board, U.S. Merit Systems Protection Board, 1615 M Street NW, Washington, DC 20419. Please include “OMB Control No. 3124-0NEW” with your questions.

SUPPLEMENTARY INFORMATION: In accordance with title V of the Rehabilitation Act of 1973 (Rehabilitation Act), as amended, and title VII of the Civil Rights Act of 1964 (Civil Rights Act), as amended, MSPB is seeking approval of a new information collection for MSPB's reasonable accommodation process, including MSPB's Accommodation Request Form and a script for participants in MSPB programs to submit accommodation requests. The proposed information collection activity covers MSPB's collection, maintenance, and use of records on applicants for employment, employees, and participants in MSPB programs who request or receive reasonable accommodations or other appropriate modifications from MSPB for disability, medical, pregnancy-related, or religious reasons.

Title V of the Rehabilitation Act of 1973, as amended, prohibits discrimination in services and employment on the basis of disability; title VII of the Civil Rights Act of 1964, in relevant part, prohibits discrimination on the basis of religion; the Pregnancy Discrimination Act prohibits discrimination on the basis of pregnancy. Each Act, along with the Pregnant Workers Fairness Act, requires employers to provide reasonable accommodations, respectively, related to an employee's disability, pregnancy-related condition, or religious beliefs, that conflict with work requirements, unless the accommodation would cause the employer an undue hardship.¹ In general, an accommodation is any change in the work environment or in the way things are customarily done that enables an individual with a disability to enjoy equal employment opportunities. MSPB considers the following factors, where applicable, when adjudicating reasonable accommodations requests received: (1) Description of the accommodations requested by applicants for employment or employees seeking modification or adjustments; (2) description of the medical conditions or pregnancy-related conditions that impact the ability to apply for employment or for employees to carry out work-related duties and functions; (3) description of bodily functions impacted by the disabling medical or pregnancy-related conditions; (4) description of treatment, medication, or other mitigating factors used to treat the disabling medical conditions; (5) description of the sincerely held religious beliefs that conflict with a work requirement; and (6) supporting documentation (e.g., medical records, doctor's notes, documentation regarding religious beliefs, etc.) for the request.

¹ Pregnancy includes current pregnancy; past pregnancy; potential pregnancy; medical condition(s) related to pregnancy or childbirth including breastfeeding/lactation; having or choosing not to have an abortion; and birth control (contraception).

Reasonable accommodations on the basis of disability typically fall into the following categories: (1) Modifications or adjustments to a job application process that enable a qualified applicant with a disability to be considered for a position; (2) modifications or adjustments to the work environment, or to the manner or circumstances under which the position held or desired is customarily performed, that enable a qualified individual with a disability to perform the essential functions of that position; (3) modifications or adjustments that enable a qualified employee with a disability to enjoy equal benefits and privileges of employment as are enjoyed by other similarly-situated employees without disabilities; and (4) modifications to agency operating procedures to enable a qualified individual with a disability full access to agency functions. In some instances, individuals may request modification to their workspace, schedule, duties, or other requirements for documented medical reasons that may not qualify as a disability but may necessitate an appropriate modification to workplace policies and practices.

MSPB's Office of Equal Employment Opportunity is responsible for processing requests for reasonable accommodations from applicants for employment at MSPB and MSPB employees who seek an accommodation due to a disability, medical, pregnancy-related, or religious reasons as well as processing requests based on documented medical reasons that may not qualify as a disability but that may necessitate an appropriate modification to workplace policies and practices. For participants in MSPB programs who are not applicants for employment or MSPB employees, MSPB's Accessibility Program Manager, within the Office of Information Resources Management, is responsible for processing these requests.

The request and any related records provided to support the request, any evaluation conducted internally or by a third party under contract with MSPB, the decision regarding whether to grant or deny a request, and the details and conditions of the reasonable accommodation are all included in this collection.

Title: Information Collection Submission for MSPB's Reasonable Accommodation Request.

OMB Number: 3124-0NEW.

Type of Information Collection: This will be a new information collection.

ICR Status: MSPB intends to request approval of a new information collection from OMB under the Paperwork Reduction Act of 1995 (44 U.S.C. 3506 and 3507). An agency may not conduct or sponsor, and a person is not required to respond to, a collection of information, unless it displays a currently valid OMB control number.

Abstract of Proposed Collection: This collection is part of MSPB's compliance efforts to collect information to facilitate adjudication of reasonable accommodations requests by employees of or applicants to the MSPB, and by participants in MSPB programs, e.g., parties to appeals, respondents to surveys, etc. See The Rehabilitation Act of 1973, 29 U.S.C. 701, 791, 794; title VII of the Civil Rights Act of 1964, 42 U.S.C. 2000e; 29 CFR part 1605 (Guidelines on Discrimination Because of Religion); 29 CFR part 1614 (Federal Sector Equal Employment Opportunity); 29 CFR part 1630 (Regulations To Implement the Equal Employment Provisions of the Americans With Disabilities Act); E.O. 13164, Requiring Federal Agencies to Establish Procedures to Facilitate the Provision of Reasonable Accommodation (July 26, 2000); and E.O. 13548, Increasing Federal Employment of Individuals with Disabilities (July 26, 2010); The Pregnant Workers Fairness Act (effective June 27, 2023). Responses to any collection of information under this ICR are voluntary.

Affected Public: Individuals and Households; Businesses and Organizations.

Estimated Total Number of Respondents: 90.

Estimated Frequency of Responses: Once per request.

Estimated Total Average Number of Responses for Each Respondent: 1.

Estimated Total Annual Burden Hours: 70.

Estimated Total Cost: $2,653.

Comments: Comments should be submitted as indicated in the ADDRESSES caption above. Comments are solicited to: (a) evaluate whether the collection of information is necessary for the proper performance of the functions of MSPB, including whether the information shall have practical utility; (b) evaluate the accuracy of MSPB's estimate of the burden of the collection of information; (c) enhance the quality, utility, and clarity of the information to be collected; (d) minimize the burden of the collection of information on respondents, including through the use of automated collection techniques or other forms of information technology; and (e) evaluate the estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Gina K. Grippando,
Clerk of the Board.

[FR Doc. 2025-00956 Filed 1-15-25; 8:45 am]

BILLING CODE 7400-01-P